DEPARTMENT OF EDUCATION

Notice of Submission for OMB Review; Institute of Education Sciences; Pell Grant Experiments Study

SUMMARY: The Pell Grant Experiments evaluation is a two-part, five-year demonstration study sponsored by the U.S. Department of Education that focuses on the effects of expanded access to Pell grants on students' employment and earnings. The primary outcome of interest is (1) The employment status and earnings of students who participate in the study while secondary outcomes include (2) students' experiences with and participation in education and training, (3) measures of student debt and financial aid, and (4) the extent of participation in job search assistance services.

DATES: Interested persons are invited to submit comments on or before August 9, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04848. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Pell Grant Experiments Study.

OMB Control Number: Pending.

Type of Review: New.

Total Estimated Number of Annual Responses: 23,804.

Total Estimated Number of Annual Burden Hours: 5,732.

Abstract: This study consists of two experiments, each of which will examine the impact of a single change to the Pell grant eligibility criteria. The first experiment will relax the prohibition on receipt of Pell grants by students with a bachelors' degree. Individuals eligible for the first experiment must have a bachelor's degree, be unemployed or underemployed, and pursue a vocational training program up to one year in duration. The second experiment will reduce the minimum duration and intensity levels of programs that Pell grant recipients must participate in from 15 weeks with 600 minimum clock hours to eight weeks with 150 minimum clock hours. Each experiment will operate through a set of Pell grant experiment (PGE) schools that provide education and training services that qualify as PGE programs.

Participants in both experiments will be randomly assigned to either (1) a treatment group, which will have expanded access to Pell grants; or (2) a control group, which will not have access. Within both experiments, the treatment group will be very similar to the control at the time of random assignment except for access to Pell grants. Subsequent differences in the employment and earnings outcomes between treatment and control group members can then be attributed to Pell grant access. The first experiment will involve roughly 28 PGE schools with an average of 100 students participating per school. The second experiment will involve roughly 40 PGE schools with an average of 200 participating students per school. The expected sample of both experiments combined is approximately 10,800 students. Data for this evaluation will come from participants' Free Application of Federal Student Aid (FAFSA) applications, PGE school administrative records, Social Security Administration earnings statements, and a survey of study participants. The study participant enrollment period is expected to last from July 2012 to January 2014. Data extracts from FAFSA applications will occur between October and December during years 2012-2014. Adminstrative data extracts from PGE schools will occur between January and March during years 2013-2015. A stratified survey of treatment and control group members with a targeted total sample size of 2,000 will be fielded between July 2014 and March 2015.

Dated: July 5, 2012.
Darrin A. King,
Director, Information Collection Clearance Division Privacy, Information and Records Management Services, Office of Management.

[FR Doc. 2012-16830 Filed 7-9-12; 8:45 am]

BILLING CODE 4000-01-P